DEPARTMENT OF COMMERCE

International Trade Administration

[A-570-170, C-570-171]

Disposable Aluminum Containers, Pans, Trays, and Lids From the People's Republic of China: Antidumping and Countervailing Duty Orders

AGENCY: Enforcement and Compliance, International Trade Administration, Department of Commerce.

SUMMARY: Based on affirmative final determinations by the U.S. Department of Commerce (Commerce) and the U.S. International Trade Commission (ITC), Commerce is issuing antidumping duty (AD) and countervailing duty (CVD) orders on disposable aluminum containers, pans, trays, and lids (disposable aluminum containers) from the People's Republic of China (China).

DATES: Applicable May 8, 2025.

FOR FURTHER INFORMATION CONTACT: Brian Warnes (CVD) or Matthew Palmer (AD), AD/CVD Operations, Offices VII and III, Enforcement and Compliance, International Trade Administration, U.S. Department of Commerce, 1401 Constitution Avenue NW, Washington, DC 20230; telephone: (202) 482-0028 or (202) 482-1678, respectively.

SUPPLEMENTARY INFORMATION:

Background

In accordance with sections 705(d), 735(d), and 777(i) of the Tariff Act of 1930, as amended (the Act), on March 11, 2025, Commerce published its affirmative final determination of sales at less-than-fair-value (LFTV) of disposable aluminum containers from China and its affirmative final determination that countervailable subsidies are being provided to producers and exporters of disposable aluminum containers from China.¹ As part of these determinations, Commerce made affirmative critical circumstances findings for the China-wide entity in the LTFV investigation and for Henan Aluminum Corporation, Zhejiang Acumen Technology Living Co., Ltd., and all other producers and/or exporters in the CVD investigation.²

¹ See Disposable Aluminum Containers, Pans, Trays, and Lids from the People's Republic of China: Final Affirmative Determination of Sales at Less Than Fair Value and Final Affirmative Determination of Critical Circumstances, 90 FR 11705 (March 11, 2025); see also Disposable Aluminum Containers, Pans, Trays, and Lids from the People's Republic of China: Final Affirmative Countervailing Duty Determination and Final Affirmative Determination of Critical Circumstances, 90 FR 11703 (March 11, 2025).

² Id.

On April 28, 2025, the ITC notified Commerce of its final affirmative determination that an industry in the United States is materially injured within the meaning of sections 705(b)(1)(A)(i) and 735(b)(1)(A)(i) of the Act.³ Further, the ITC determined that critical circumstances do not exist with respect to imports of disposable aluminum containers from China.⁴

³ See ITC's Letter, “Notice of ITC Final Determinations,” dated April 28, 2025 (ITC Notification Letter).

⁴ Id.

Scope of the Orders

The merchandise covered by these orders is disposable aluminum containers from China. For a complete description of the scope of these orders, see the appendix to this notice.

Antidumping Duty Order

On April 28, 2025, in accordance with section 735(d) of the Act, the ITC notified Commerce of its final determination that an industry in the United States is materially injured within the meaning of section 735(b)(1)(A)(i) of the Act by reason of imports of disposable aluminum containers that are sold in the United States for less than fair value. Therefore, in accordance with sections 735(c)(2) and 736 of the Act, Commerce is issuing this AD order. Because the ITC determined that imports of disposable aluminum containers from China are materially injuring a U.S. industry, unliquidated entries of such merchandise from China, entered or withdrawn from warehouse for consumption, are subject to the assessment of antidumping duties.

Therefore, in accordance with section 736(a)(1) of the Act, Commerce will direct U.S. Customs and Border Protection (CBP) to assess, upon further instruction by Commerce, antidumping duties equal to the amount by which the normal value of the merchandise exceeds the export price (or constructed export price) of the merchandise for all relevant entries of disposable aluminum containers from China. Antidumping duties will be assessed on unliquidated entries of disposable aluminum containers from China entered, or withdrawn from warehouse, for consumption on or after December 30, 2024, the date of publication of the LTFV Preliminary Determination,⁵ but will not include entries occurring after the expiration of the provisional measures period and before publication of the ITC's final injury determination, as further described in the “Provisional Measures—AD” section of this notice.

⁵ See Disposable Aluminum Containers, Pans, Trays, and Lids from the People's Republic of China: Preliminary Affirmative Determination of Sales at Less Than Fair Value, and Preliminary Affirmative Determination of Critical Circumstances, 89 FR 106433 (December 30, 2024) (LTFV Preliminary Determination).

Critical Circumstances—AD

With respect to the ITC's negative critical circumstances determination on imports of disposable aluminum containers from China, we will instruct CBP to lift the suspension of liquidation and to refund all cash deposits for estimated antidumping duties with respect to entries of the subject merchandise entered, or withdrawn from warehouse, for consumption on or after October 1, 2024 (i.e., 90 days prior to the date of the LTFV Preliminary Determination), but before December 30, 2024 (i.e., the date of publication of the LTFV Preliminary Determination).

Suspension of Liquidation and Cash Deposits—AD

In accordance with section 736 of the Act, Commerce intends to instruct CBP to reinstitute the suspension of liquidation of disposable aluminum containers from China effective the date of publication of the ITC's final affirmative injury determinations in the Federal Register. These instructions suspending liquidation will remain in effect until further notice. Commerce also intends to instruct CBP to require cash deposits equal to the estimated weighted-average dumping margins indicated in the table below. The rate for the China-wide entity applies to all producers and exporters not specifically listed below, as appropriate.

Estimated Weighted-Average Dumping Margins

The estimated weighted-average dumping margins are as follows:

Producer | Exporter | Weighted- average dumping margin (percent)
Foshan Bossfoil Aluminum Products Co., Ltd | Aikou Packaging Co., Ltd | 193.90
Guangzhou Huafeng Aluminum Foil Technologies Co. Ltd | Guangzhou Huafeng Aluminum Foil Technologies Co. Ltd | 193.90
Guangzhou Vanzhen Aluminum Foil Products Co., Ltd | Guangzhou Vanzhen Aluminum Foil Products Co., Ltd | 193.90
Henan Mingwei Aluminum Products Co., Ltd | Henan Mingwei Aluminum Products Co., Ltd | 193.90
Jinhua Majestic Aluminum Packing Co., Ltd | Jinhua Majestic Aluminum Packing Co., Ltd | 193.90
Ningbo Laxwell Aluminum Foil Technology Co., Ltd | Ningbo Laxwell Aluminum Foil Technology Co., Ltd | 193.90
Ningbo Mylife Aluminium Foil Products Co., Ltd | Ningbo Mylife Aluminium Foil Products Co., Ltd | 193.90
Ningbo Reco Packing Technology Co., Ltd | Ningbo Reco Packing Technology Co., Ltd | 193.90
Ningbo Times Aluminium Foil Technology Corp., Ltd | Ningbo Times Aluminium Foil Technology Corp., Ltd | 193.90
Ningbo Uber Aluminum Foil Products Co., Ltd | Ningbo Uber Aluminum Foil Products Co., Ltd | 193.90
Ningbo Wonderfoil Aluminium Foil Technology Co., Ltd | Ningbo Wonderfoil Aluminium Foil Technology Co., Ltd | 193.90
Ningbo Wonderfoil Aluminium Foil Technology Co., Ltd | Qingdao Honsun Packaging Technology Co., Ltd | 193.90
Qingdao Wohler Aluminium Environmental Technology Co, Ltd | Qingdao Wohler Aluminium Environmental Technology Co, Ltd | 193.90
DongTai Subcompany of Shanghai Dragon Aluminium Foil Products Co., Ltd | DongTai Subcompany of Shanghai Dragon Aluminium Foil Products Co., Ltd | 193.90
Suzhou Spk Aluminium Foil Co., Ltd | Suzhou Spk Aluminium Foil Co., Ltd | 193.90
Nantong Hongtu Health Technology Co., Ltd | Uniriver Industries Co., Ltd | 193.90
Wohler (Qingdao) Co., Ltd | Wohler (Qingdao) Co., Ltd | 193.90
Yuyao Rhea Aluminum Foil Products Co., Ltd | Yuyao Rhea Aluminum Foil Products Co., Ltd | 193.90
Yuyao Smallcap Household Products Co., Ltd | Yuyao Smallcap Household Products Co., Ltd | 193.90
Zhangjiagang Auto Well Co., Ltd | Zhangjiagang Kangyuan International Trading Co., Ltd | 193.90
Jiangsu Greensource Health Aluminum Foil Technology Co., Ltd | Zhangjiagang Kangyuan International Trading Co., Ltd | 193.90
Zhejiang Zhongjin Aluminum Industry Co., Ltd | Zhejiang Zhongjin Aluminum Industry Co., Ltd | 193.90
Henan Vino Aluminium Foil Co., Ltd | Zhengzhou Eming Aluminium Industry Co., Ltd | 193.90
China-wide Entity |  | * 287.80
* Rate based on facts available with adverse inferences.

Provisional Measures—AD

Section 733(d) of the Act states that suspension of liquidation pursuant to an affirmative preliminary determination may not remain in effect for more than four months, except where exporters representing a significant proportion of exports of the subject merchandise request that Commerce extend the four-month period to no more than six months. Commerce published the LTFV Preliminary Determination on December 30, 2024. The provisional measures period, beginning on the date of publication of the LTFV Preliminary Determination, ended on April 28, 2025. Therefore, in accordance with section 733(d) of the Act and our practice,⁶ Commerce will instruct CBP to terminate the suspension of liquidation and to liquidate, without regard to antidumping duties, unliquidated entries of disposable aluminum containers from China entered, or withdrawn from warehouse, for consumption after April 28, 2025, the final day on which the provisional measures were in effect, until and through the day preceding the date of publication of the ITC's final affirmative injury determination in the Federal Register. Suspension of liquidation and the collection of cash deposits will resume on the date of publication of the ITC's final determination in the Federal Register.

⁶ See, e.g., Certain Corrosion-Resistant Steel Products from India, Italy, the People's Republic of China, the Republic of Korea and Taiwan: Amended Final Affirmative Antidumping Determination for India and Taiwan, and Antidumping Duty Orders, 81 FR 48390, 48392 (July 25, 2016).

Countervailing Duty Order

As stated above, based on the above-referenced affirmative final determination by the ITC that an industry in the United States is materially injured within the meaning of section 705(b)(1)(A)(i) of the Act by reason of subsidized imports of disposable aluminum containers from China,⁷ in accordance with section 705(c)(2) of the Act, Commerce is issuing this CVD order. Because the ITC determined that imports of disposable aluminum containers from China are materially injuring a U.S. industry, unliquidated entries of subject merchandise entered, or withdrawn from warehouse, for consumption, are subject to the assessment of countervailing duties.

⁷ See ITC Notification Letter.

Therefore, in accordance with section 706(a)(1) of the Act, Commerce will direct CBP to assess, upon further instruction by Commerce, countervailing duties on all relevant entries of disposable aluminum containers from China, which are entered, or withdrawn from warehouse, for consumption on or after October 28, 2024, the date of publication of the CVD Preliminary Determination,⁸ but will not include entries occurring after the expiration of the provisional measures period and before publication of the ITC's final affirmative injury determination under section 705(b) of the Act, as further described in the “Provisional Measures—CVD” section of this notice.

⁸ See Disposable Aluminum Containers, Pans, Trays, and Lids from the People's Republic of China: Preliminary Affirmative Countervailing Duty Determination, Preliminary Affirmative Determination of Critical Circumstances, and Alignment of Final Determination With Final Antidumping Duty Determination, 89 FR 85495 (October 28, 2024) (CVD Preliminary Determination).

Critical Circumstances—CVD

With regard to the ITC's negative critical circumstances determination on imports of disposable aluminum containers from China, we intend to instruct CBP to lift suspension and to refund any cash deposits made to secure the payment of estimated countervailing duties with respect to entries of the subject merchandise entered, or withdrawn from warehouse, for consumption on or after July 30, 2024, (i.e., 90 days prior to the date of the publication of the CVD Preliminary Determination), but before October 28, 2024 (i.e., the date of publication of the CVD Preliminary Determination).

Suspension of Liquidation and Cash Deposits

In accordance with section 706 of the Act, we will instruct CBP to reinstitute suspension of liquidation on all relevant entries of disposable aluminum containers from China, effective on the date of publication of the ITC's final affirmative injury determination in the Federal Register, and to assess, upon further instruction by Commerce, pursuant to section 706(a)(1) of the Act, countervailing duties for each entry of the subject merchandise in an amount based on the net countervailable subsidy rate for the subject merchandise. These instructions suspending liquidation will remain in effect until further notice.

Commerce will also instruct CBP to require cash deposits equal to the amounts as indicated below. Accordingly, effective on the date of publication of the ITC's final affirmative injury determination in the Federal Register, CBP will require, at the same time as importers would normally deposit estimated duties on the subject merchandise, a cash deposit for each entry of subject merchandise equal to the subsidy rates listed below.⁹ The all-others rate applies to all producers or exporters not specifically listed below, as appropriate.

⁹ See section 706(a)(3) of the Act.

Estimated CVD Subsidy Rates

The net countervailable subsidy rates are as follows:

Company | Subsidy rate (percent)
Henan Aluminum Corporation | * 317.85
Zhejiang Acumen Technology Living Co., Ltd | * 317.85
All Others | * 317.85
* Rate based on facts available with adverse inferences.

Provisional Measures—CVD

Section 703(d) of the Act states that suspension of liquidation instructions issued pursuant to an affirmative preliminary determination may not remain in effect for more than four months. Commerce published its CVD Preliminary Determination on October 28, 2024.¹⁰ As such, the four-month period beginning on the date of the publication of the CVD Preliminary Determination ended on February 24, 2025.

¹⁰ See CVD Preliminary Determination.

Therefore, in accordance with section 703(d) of the Act, Commerce instructed CBP to terminate the suspension of liquidation and to liquidate, without regard to countervailing duties, unliquidated entries of disposable aluminum containers from China entered, or withdrawn from warehouse, for consumption after February 25, 2025, the date on which the provisional measures were no longer in effect, until and through the day preceding the date of publication of the ITC's final injury determination in the Federal Register. Suspension of liquidation will resume on the date of publication of the ITC's final affirmative injury determination in the Federal Register.

Establishment of the Annual Inquiry Service List

On September 20, 2021, Commerce published the Final Rule in the Federal Register.¹¹ On September 27, 2021, Commerce also published the Procedural Guidance in the Federal Register.¹² The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.

¹¹ See Regulations to Improve Administration and Enforcement of Antidumping and Countervailing Duty Laws, 86 FR 52300 (September 20, 2021) (Final Rule).

¹² See Scope Ruling Application; Annual Inquiry Service List; and Informational Sessions, 86 FR 53205 (September 27, 2021) (Procedural Guidance).

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL-Annual Inquiry Service List.” ¹³

¹³ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance,¹⁴ the new annual inquiry service list will be in place until the following year, when the Opportunity Notice for the anniversary month of the order is published.

¹⁴ See Procedural Guidance, 86 FR at 53206.

Commerce may update an annual inquiry service list at any time as needed based on interested parties' amendments to their entries of appearance to remove or otherwise modify their list of members and representatives, or to update contact information. Any changes or announcements pertaining to these procedures will be posted to the ACCESS website.

Special Instructions for Petitioners and Foreign Governments

In the Final Rule, Commerce stated that, “after an initial request and placement on the annual inquiry service list, both petitioners and foreign governments will automatically be placed on the annual inquiry service list in the years that follow.” ¹⁵ Accordingly, as stated above, the petitioners and the Government of China should submit their initial entry of appearance after publication of this notice in order to appear in the first annual inquiry service list for these orders. Pursuant to 19 CFR 351.225(n)(3), the petitioners and the Government of China will not need to resubmit their entry of appearance each year to continue to be included on the annual inquiry service list. However, the petitioners and the Government of China are responsible for making amendments to their entries of appearance during the annual update to the annual inquiry service list in accordance with the procedures described above.

¹⁵ See Final Rule, 86 FR at 52335.

Notification to Interested Parties

This notice constitutes the AD and CVD orders with respect to disposable aluminum containers from China pursuant to sections 736(a) and 706(a) of the Act. Interested parties can find a list of duty orders currently in effect at http://enforcement.trade.gov/stats/iastats1.html.

These orders are published in accordance with sections 736(a) and 706(a) of the Act and 19 CFR 351.211(b).

Dated: May 2, 2025.
Christopher Abbott,
Deputy Assistant Secretary for Policy and Negotiations, performing the non-exclusive functions and duties of the Assistant Secretary for Enforcement and Compliance.

Appendix

Scope of the Orders

The merchandise covered by the orders is disposable aluminum containers, pans, trays, and lids produced primarily from flat-rolled aluminum. The subject merchandise includes disposable aluminum containers, pans, trays, and lids regardless of shape or size and whether or not wrinkled or smooth.

The term “disposable” is used to identify an aluminum article that is designed to be used once, or for a limited number of times, and then recycled or otherwise disposed.

“Containers, pans, and “trays” are receptacles for holding goods.

The subject disposable aluminum lids are intended to be used in combination with disposable containers produced from aluminum or other materials (e.g., paper or plastic). Where a disposable aluminum lid is imported with a non-aluminum container, only the disposable aluminum lid is included in the scope.

Disposable aluminum containers, pans, trays, and lids are also included within the scope regardless of whether the surface has been embossed, printed, coated (including with a non-stick substance), or decorated, and regardless of the style of the edges. The inclusion of a nonaluminum lid or dome sold or packaged with an otherwise in-scope article does not remove the article from the scope, however, only the disposable aluminum container, pan, tray, and lid is covered by the scope definition.

Disposable aluminum containers, pans, trays, and lids are typically used in food-related applications, including but not limited to food preparation, packaging, baking, barbequing, reheating, takeout, or storage, but also have other uses. Regardless of end use, disposable aluminum containers, pans, trays, and lids that meet the scope definition and are not otherwise excluded are subject merchandise.

Excluded from the scope are disposable aluminum casks, drums, cans, boxes and similar containers (including disposable aluminum cups and bottles) properly classified under Harmonized Tariff Schedule of the United States (HTSUS) subheading 7612.90. However, aluminum containers, pans, trays, and lids that would otherwise be covered by the scope are not excluded based solely on the fact that they are being classified under HTSUS subheading 7612.90.5000 due to the thickness of aluminum being less than 0.04 mm or greater than 0.22 mm.

The flat-rolled aluminum used to produce the subject articles may be made to ASTM specifications ASTM B479 or ASTM B209-14 but can also be made to other specifications. Regardless of the specification, however, all disposable aluminum containers, pans, trays, and lids meeting the scope description are included in the scope.

Disposable aluminum containers, pans, trays, and lids are currently classifiable under HTSUS subheading 7615.10.7125. Further, merchandise that falls within the scope of this proceeding may also be entered into the United States under HTSUS subheadings 7612.90.1090, 7615.10.3015, 7615.10.3025, 7615.10.7130, 7615.10.7155, 7615.10.7180, 7615.10.9100, and 8309.90.0000. Although the HTSUS subheadings are provided for convenience and customs purposes, the written description of the scope of these orders is dispositive.

[FR Doc. 2025-08089 Filed 5-7-25; 8:45 am]

BILLING CODE 3510-DS-P